DEPARTMENT OF COMMERCE

National Oceanic and Atmospheric Administration

[I.D. 071106E]

Gulf of Mexico Fishery Management Council; Public Meetings

AGENCY: National Marine Fisheries Service (NMFS), National Oceanic and Atmospheric Administration (NOAA), Commerce.

ACTION: Notice of Closed Session Advisory Panel Selection Committee Conference Call.

SUMMARY: The Gulf of Mexico Fishery Management Council (Council) will convene its Advisory Panel Selection Committee via Conference Call to select participants for Ad Hoc Shrimp Effort AP, SEDAR NGO AP, and review AP Member Violations Material for recommendation to the Council.

DATES: The conference call will be held on Thursday, August 3, 2006, from 11 a.m. EDT to 12 noon EDT.

ADDRESSES: Meeting address: The meeting will be held via Closed Session conference call.

Council address: Gulf of Mexico Fishery Management Council, 2203 North Lois Avenue, Suite 1100, Tampa, Florida 33607.

FOR FURTHER INFORMATION CONTACT: Mr. Wayne Swingle, Executive Director, Gulf of Mexico Fishery Management Council; telephone: 813.348.1630.

SUPPLEMENTARY INFORMATION: The Gulf of Mexico Fishery Management Council (Council) will convene its Advisory Panel Selection Committee via Conference Call to select participants for Ad Hoc Shrimp Effort AP, SEDAR NGO AP, and review AP Member Violations Material in a closed session conference call on Thursday, August 3, 2006, at 11 a.m. EDT. The Committee recommendations will be presented to the Council at the August 14-18, 2006, Council Meeting in Baton Rouge, LA.

Special Accommodations

These meetings are physically accessible to people with disabilities. Requests for sign language interpretation or other auxiliary aids should be directed to Tina Trezza at the Council (see ADDRESSES) at least five working days prior to the meeting.

Dated: July 11, 2006.
Tracey L. Thompson,
Acting Director, Office of Sustainable Fisheries, National Marine Fisheries Service.

[FR Doc. E6-11161 Filed 7-13-06; 8:45 am]

BILLING CODE 3510-22-S